NATIONAL CREDIT UNION ADMINISTRATION

12 CFR Part 711

Management Official Interlocks Threshold Change

AGENCY: National Credit Union Administration (NCUA).

ACTION: Final rule.

SUMMARY: The NCUA is amending its management interlocks rule to conform it to a change the Financial Services Regulatory Relief Act of 2006 (FSRAA) made in the dollar threshold that triggers the prohibition on management officials serving at unaffiliated depository organizations. This final rule changes the threshold from $20 million to $50 million.

DATES: This rule is effective as of October 15, 2007.

FOR FURTHER INFORMATION CONTACT: Annette Tapia, Staff Attorney, Office of General Counsel, National Credit Union Administration, 1775 Duke Street, Alexandria, Virginia 22314-3428 or telephone: (703) 518-6540.

SUPPLEMENTARY INFORMATION:

A. Background

The Depository Institution Management Interlocks Act (Interlocks Act) prohibits individuals from simultaneously serving as a management official at two unaffiliated depository institutions or their holding companies (collectively, depository organizations) under certain circumstances. 12 U.S.C. 3201 et seq. Section 203(1) of the Interlocks Act prohibits interlocks between unaffiliated depository organizations if each depository organization or its affiliate has an office in the same relevant metropolitan statistical area (RMSA prohibition), unless each of the depository organizations or affiliates involved has total assets below a specified threshold. Before enactment of FSRRA, this asset threshold was $20 million; however, section 610 of FSRRA amended the Interlocks Act by raising this asset threshold to $50 million, effective October 13, 2006.

This final rule tracks changes the other federal financial institution regulators have made in their management interlocks rules. 72 FR 38753 (July 16, 2007).

B. Regulatory Changes

NCUA is amending § 711.3(b) to implement section 610 of FSRRA. Specifically, the final rule modifies the RMSA prohibition to allow a management official of one depository organization to serve as a management official of an unaffiliated depository organization that has an office in the same RMSA as the first organization if each of the depository organizations or affiliates involved has total assets of less than $50 million.

C. Regulatory Procedures

Final Rule Under the Administrative Procedure Act

Generally, the Administrative Procedure Act (APA) requires a federal agency to provide the public with notice and the opportunity to comment on agency rulemakings. The amendment in this rule is not substantive but technical in that it merely incorporates into NCUA's regulations a statutory increase in the threshold. The APA permits an agency to forego the notice and comment period under certain circumstances, such as when a rulemaking is technical and not substantive. For these reasons, NCUA finds good cause that notice and public comment are unnecessary under Section 553(b)(3)(B) of the APA, 5 U.S.C. 553(b)(3)(B), and also finds good cause to dispense with the 30-day delayed effective date requirement under Section 553(d)(3) of the APA. 5 U.S.C. 553(d)(3). The rule will, therefore, be effective upon publication.

Regulatory Flexibility Act

The Regulatory Flexibility Act requires NCUA to prepare an analysis to describe any significant economic impact a rule may have on a substantial number of small entities (those credit unions under ten million dollars in assets). This rule changes NCUA's regulation to conform to a statutory change. This rule will not have a significant economic impact on a substantial number of small credit unions, and, therefore, a regulatory flexibility analysis is not required.

Paperwork Reduction Act

NCUA has determined that this rule will not increase paperwork requirements under the Paperwork Reduction Act of 1995 and regulations of the Office of Management and Budget.

Executive Order 13132

Executive Order 13132 encourages independent regulatory agencies to consider the impact of their actions on state and local interests. In adherence to fundamental federalism principles, NCUA, an independent regulatory agency as defined in 44 U.S.C. 3502(5), voluntarily complies with the executive order. This rule will not have substantial direct effects on the states, on the relationship between the national government and the states, or on the distribution of power and responsibilities among the various levels of government. NCUA has determined that this rule does not constitute a policy that has federalism implications for purposes of the executive order.

The Treasury and General Government Appropriations Act, 1999—Assessment of Federal Regulations and Policies on Families

The NCUA has determined that this rule will not affect family well-being within the meaning of section 654 of the Treasury and General Government Appropriations Act, 1999, Pub. L. 105-277, 112 Stat. 2681 (1998).

Small Business Regulatory Enforcement Fairness Act

The Small Business Regulatory Enforcement Fairness Act of 1996 (Pub. L. 104-121) (SBREFA) provides generally for congressional review of agency rules. A reporting requirement is triggered in instances where NCUA issues a final rule as defined by Section 551 of the APA. 5 U.S.C. 551. The Office of Management and Budget is currently reviewing this rule as it pertains to SBREFA.

List of Subjects in 12 CFR Part 711

Antitrust, Banks, Banking, Credit unions.

By the National Credit Union Administration Board on October 9, 2007.
Mary Rupp,
Secretary of the Board.

For the reasons discussed above, NCUA is amending part 711 as follows:

PART 711—MANAGEMENT OFFICIAL INTERLOCKS

1. The authority citation for part 711 continues to read as follows:

Authority: 12 U.S.C. 1757 and 3201-3208.

2. Section 711.3(b) is amended by removing the number “20” and adding number “50” in its place.

[FR Doc. E7-20266 Filed 10-12-07; 8:45 am]

BILLING CODE 7535-01-P